DEPARTMENT OF LABOR

Employment and Training Administration

[TA-W-52,253]

Scope Molding, LLC, Almena, Wisconsin; Notice of Termination of Investigation

Pursuant to section 221 of the Trade Act of 1974, as amended, an investigation was initiated on July 9, 2003 in response to a petition filed on behalf of workers at Scope Molding, Inc., Almena, Wisconsin.

The petitioning group of workers is covered by an earlier petition filed on July 1, 2003 (TA-W-52,216) that is the subject of an ongoing investigation for which a determination has not yet been issued. Further investigation in this case would duplicate efforts and serve no purpose; therefore the investigation under this petition has been terminated.

Signed at Washington, DC this 18th day of July, 2003
Richard Church,
Certifying Officer, Division of Trade Adjustment Assistance.

[FR Doc. 03-19228 Filed 7-28-03; 8:45 am]

BILLING CODE 4510-30-P